DEPARTMENT OF TRANSPORTATION

Federal Aviation Administration

14 CFR Part 71

[Docket No. FAA-2001-10912; Airspace Docket No. 00-AWA-6]

RIN 2120-AA66

Proposed Modification of the Cincinnati/Northern Kentucky International Airport Class B Airspace Area, KY

AGENCY: Federal Aviation Administration (FAA), DOT.

ACTION: Notice of Proposed Rulemaking (NPRM); correction.

SUMMARY: This action includes a graphic depiction of the proposed Cincinnati/Northern Kentucky International Airport Class B airspace area, KY, modification which was inadvertently omitted during the publication of the NPRM. The NPRM proposes to modify the current Cincinnati/Northern Kentucky International Airport (CVG) Class B airspace area. Specifically, this action proposes to expand the lateral limits of Area C; reduce the lateral limits of Area F; eliminate Area G; and raise the upper limit of the entire Class B airspace area from 8,000 feet mean sea level (MSL) to 10,000 feet MSL. Inclusion of this graphic is necessary to depict the proposed modifications of the Class B airspace area.

DATES: Comments must be received on or before March 1, 2002.

FOR FURTHER INFORMATION CONTACT: Paul Gallant/Jan Glivings, Airspace and Rules Division, ATA-400, Office of Air Traffic Airspace Management, Federal Aviation Administration, 800 Independence Avenue, SW., Washington, DC 20591; telephone: (202) 267-8783.

SUPPLEMENTARY INFORMATION: On December 31, 2001, Docket No. FAA-2001-10912; Airspace Docket No. 00-AWA-6, Federal Register Document 01-32007, was published in the Federal Register proposing to modify the Cincinnati/Northern Kentucky International Airport Class B airspace area (66 FR 67632). The NPRM inadvertently omitted the graphic depicting the modifications of the Class B airspace area. This action includes the graphic for that modification.

Correction to Proposed Rule

Accordingly, pursuant to the authority delegated to me, the NPRM for the Cincinnati/Northern Kentucky International Airport KY, Class B airspace area as published in the Federal Register on December 31, 2001 (66 FR 67632); Federal Register Document 01-32007, and incorporated by reference in 14 CFR 71.1, is corrected as follows:

§ 71.1 [Corrected]

By inserting the graphic behind page 67638 after the text of the NPRM.

Issued in Washington, DC, on January 14, 2002.
Reginald C. Matthews,
Manager, Airspace and Rules Division.

BILLING CODE 4910-13-P

[FR Doc. 02-1372 Filed 1-18-02; 8:45 am]

BILLING CODE 4910-13-C